FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 1, 2013.

A. Federal Reserve Bank of St. Louis (Glenda Wilson, Community Affairs Officer) P.O. Box 442, St. Louis, Missouri 63166-2034:

1. Christopher C. Reid, Owensboro, Kentucky, as an individual and in concert with a control group consisting of Mr. Reid, Jacob Reid, Lauren Reid Patton, Cathy Switzer, Greg, Mullican, Todd Switzer, Kyle Aud, Bridget Reid, Jennie Parker, Eve Holder, Matt Carter, Darrell Higginbotham, Gary White, all of Owensboro, Kentucky; Jim Davis, Scott Audas, Bob Cummins, Kay Bryant, all of Henderson, Kentucky; Danny Evitts, Scott Johnston, both of Paducah, Kentucky; Kelly Jackson, Alvaton, Kentucky; Tawna Wright, Calhoun Kentucky; and Brad Howard, Bowling Green Kentucky, to retain shares of Independence Bancshares, Inc., and thereby indirectly obtain control of Independence Bank of Kentucky, both of Ownesboro, Kentucky.

B. Federal Reserve Bank of Minneapolis (Jacqueline G. King, Community Affairs Officer) 90 Hennepin Avenue, Minneapolis, Minnesota 55480-0291:

1. James Day, Menahga and Justin Day, both of Menahga, Minnesota, to each retain voting shares of Menahga Bancshares, Inc., Menahga, Minnesota, and thereby indirectly retain control of First National Bank of Menahga & Sebeka, Menahga, Minnesota.

Board of Governors of the Federal Reserve System, April 12, 2013.
Margaret McCloskey Shanks,
Deputy Secretary of the Board.

[FR Doc. 2013-09031 Filed 4-16-13; 8:45 am]

BILLING CODE 6210-01-P